DEPARTMENT OF AGRICULTURE

Natural Resources Conservation Service

Task Force on Agricultural Air Quality

AGENCY: Natural Resources Conservation Service, USDA.

ACTION: Notice of meetings.

SUMMARY: The Task Force on Agricultural Air Quality will meet to continue discussing critical air quality issues in relation to agriculture. There will be emphasis on obtaining a greater understanding about the relationship between agricultural production and air quality. These meetings are open to the public.

DATES: The meetings will be Wednesday, July 18, 2001, and Thursday, July 19, 2001, from 9 a.m. to 4 p.m. Written material and requests to make oral presentations should reach the Natural Resources Conservation Service, at the address below, on or before July 12, 2001.

ADDRESSES: The meetings will be held at the Adam's Mark Hotel, 1550 Court Place, Denver, Colorado 80202; telephone: (303) 893-3333, in the Silver room. Written material and requests to make oral presentations should be sent to George Bluhm; University of California; Land, Air, and Water Resources; 151 Hoagland Hall, Davis, California 95616-6827.

FOR FURTHER INFORMATION CONTACT: Questions or comments should be directed to George Bluhm, Designated Federal Official, telephone: (530) 752-1018; fax: (530) 752-1552; e-mail: bluhm@crocker.ucdavis.edu.

SUPPLEMENTARY INFORMATION: Notice of this meeting is given under the Federal Advisory Committee Act, 5 U.S.C. App. 2. Additional information about the Task Force on Agricultural Air Quality, including any revised agendas for the July 18th and 19th meeting produced after this Federal Register Notice is published, may be found on the World Wide Web at http://www.nhq.nrcs.usda.gov/faca/aaqtf.html.

Draft Agenda of the July 18 and 19 Meeting

Welcome to Denver, Colorado

Colorado State Official

Approve minutes of the Washington, DC, March 27-28, 2001, AAQTF meeting.

EPA Update

National Academy of Sciences Scientific Assessment request

Status of the Agricultural Burning policy

Status of the Voluntary Compliance policy

Status of the CERCLA/EPCRA recommendation

Subcommittee business

Research Priorities and Oversight Subcommittee

ARS Agricultural Air Quality Research efforts

CSREES Agricultural Air Quality efforts / Initiative for Future Agriculture and Food Systems

Emissions Factors Subcommittee

Discussion: An Emission Factor, What is it? Who creates it? How is it changed?

Emission Factor Survey

Title V Permit Subcommittee

Title V Deferral Recommendation

Concentrated Animal Feeding Operation Subcommittee

Action Plan

Priority for Actions

Voluntary/Incentive Based Program Subcommittee

Agricultural Burning Subcommittee

New Topics

Aerobic and Anaerobic Bioremediation for Treating Animal Waste

Biomass to Energy Panel

E-diesel, diesel reformulated

Carbon Sequestration

Next Meeting, time/place

Public Input (Time will be reserved before lunch and at the close of each daily session to receive public comment. Individual presentations will be limited to 5 minutes)

Procedural

This meeting is open to the public. At the discretion of the Chair, members of the public may present oral presentations during the meeting. Persons wishing to make oral presentations should notify George Bluhm no later than July 12, 2001. If a person submitting material would like a copy distributed to each member of the committee in advance of the meeting that person should submit 25 copies to George Bluhm no later than July 12, 2001.

Information on Services for Individuals With Disabilities

For information on facilities or services for individuals with disabilities or to request special assistance at the meeting please feel free to contact George Bluhm.

USDA prohibits discrimination in its programs and activities on the basis of race, color, national origin, gender, religion, age, sexual orientation, or disability. Additionally, discrimination on the basis of political beliefs and marital or family status is also prohibited by statutes enforced by USDA. (Not all prohibited bases apply to all programs.) Persons with disabilities who require alternate means for communication of program information (braille, large print, audio tape, etc.) should contact the USDA's Target Center at (202) 720-2000 (voice and TDD).

To file a complaint of discrimination to USDA, write Director, Office of Civil Rights, Room 326-W, Whitten Building, 1400 Independence Avenue, SW, Washington, DC 20250-9410, or call (202) 720-5964 (voice and TDD). USDA is an equal opportunity provider and employer.

Signed at Washington, DC, on June 15, 2001.
Pearlie S. Reed,
Chief, Natural Resources Conservation Service.

[FR Doc. 01-16376 Filed 6-28-01; 8:45 am]

BILLING CODE 3410-16-P